DEPARTMENT OF TRANSPORTATION

Federal Aviation Administration

14 CFR Part 39

[Docket No. FAA-2009-0212; Directorate Identifier 2008-NM-122-AD]

RIN 2120-AA64

Airworthiness Directives; Boeing Model 737-600, -700, -700C, -800, -900 and -900ER Series Airplanes

AGENCY: Federal Aviation Administration (FAA), DOT.

ACTION: Notice of proposed rulemaking (NPRM).

SUMMARY: We propose to adopt a new airworthiness directive (AD) for all Boeing Model 737-600, -700, -700C, -800, -900 and -900ER series airplanes. This proposed AD would require repetitive testing of the rudder pedal forces or repetitive detailed inspections of the inner spring of the rudder feel and centering unit, and corrective actions if necessary. This proposed AD also requires replacement of the spring assembly in the rudder feel and centering unit, which terminates the repetitive tests or inspections. This proposed AD results from reports of low rudder pedal forces that were caused by a broken inner spring in the rudder feel and centering unit; a broken inner spring in conjunction with a broken outer spring would significantly reduce rudder pedal forces. We are proposing this AD to prevent reduced rudder pedal forces, which could result in increased potential for pilot-induced oscillations and reduce the ability of the flightcrew to maintain the safe flight and landing of the airplane.

DATES: We must receive comments on this proposed AD by April 24, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, Attention: Data & Services Management, P.O. Box 3707, MC 2H-65, Seattle, Washington 98124-2207; telephone 206-544-5000, extension 1, fax 206-766-5680; e-mail me.boecom@boeing.com; Internet https://www.myboeingfleet.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Kelly McGuckin, Aerospace Engineer, Systems and Equipment Branch, ANM-130S, FAA, Seattle Aircraft Certification Office, 1601 Lind Avenue, SW., Renton, Washington 98057-3356; telephone (425) 917-6490; fax (425) 917-6590.

SUPPLEMENTARY INFORMATION:

Comments Invited

We invite you to send any written relevant data, views, or arguments about this proposed AD. Send your comments to an address listed under the ADDRESSES section. Include “Docket No. FAA-2008-0212; Directorate Identifier 2008-NM-122-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received reports of low rudder pedal forces that were caused by a broken inner spring in the rudder feel and centering unit; a broken inner spring in conjunction with a broken outer spring would significantly reduce rudder pedal forces. Investigation of the removed parts revealed the root cause of the spring failure to be a material defect within the raw material of the wire stock. Boeing determined which rudder feel and centering units could be affected based on one batch of raw material, and then determined which airplanes have discrepant springs installed. This condition, if not corrected, could result in reduced rudder pedal forces, which could result in increased potential for pilot-induced oscillations and reduce the ability of the flightcrew to maintain the safe flight and landing of the airplane.

Relevant Service Information

We have reviewed Boeing Alert Service Bulletin 737-27A1287, dated April 16, 2008. The service bulletin describes procedures for repetitive testing of the rudder pedal forces or detailed repetitive inspections of the inner spring of the rudder feel and centering unit, and corrective actions if necessary. The corrective actions include the following: If the rudder pedal force measured during the test is less than 60 pounds, the service bulletin describes procedures for replacing the spring assembly. If the rudder pedal force measured is higher than 82.0 pounds, the service bulletin describes procedures for an adjustment to rudder control cables RA and RB and performing the rudder pedal forces test again. If an inner spring is found loose or there is an indication of failure during the detailed inspection, the service bulletin describes procedures for replacing the spring assembly.

The service bulletin also describes procedures for eventual replacement of the spring assembly in the rudder feel and centering unit and marking the letter ‘R’ after the serial number to indicate the replacement was done. The replacement would eliminate the need for the repetitive tests or inspections.

FAA's Determination and Requirements of this Proposed AD

We are issuing this AD because we evaluated all relevant information and determined the unsafe condition described previously is likely to exist or develop in other products of the same type design. This proposed AD would require accomplishing the actions specified in the service information described previously, except as discussed under “Difference Between the Proposed AD and Service Information.”

Difference Between the Proposed AD and Service Information

The airplanes identified in the effectivity section of the service bulletin are airplanes on which the discrepant springs were installed, and on which the inspection or testing and replacement would be required. However, the applicability in this proposed AD includes all Boeing Model 737-600, -700, -700C, -800, -900, and -900ER series airplanes because of the proposed requirement prohibiting future installation of the discrepant springs on those airplanes.

Costs of Compliance

We estimate that this proposed AD would affect 70 airplanes of U.S. registry. The following table provides the estimated costs for U.S. operators to comply with this proposed AD.

Table—Estimated costs
Action | Work hours | Average labor rate per hour | Parts | Cost per product | Number of U.S.-registered airplanes | Fleet cost
Test or Inspection | 1 | $80 | $0 | $80, per test or inspection cycle | 70 | $5,600
Replacement | 3 | 80 | 3,138 | $3,378 | 70 | 236,460

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Boeing: Docket No. FAA-2009-0212; Directorate Identifier 2008-NM-122-AD.

Comments Due Date

(a) We must receive comments by April 24, 2009.

Affected ADs

(b) None.

Applicability

(c) This AD applies to all Boeing Model 737-600, -700, -700C, -800, -900 and -900ER series airplanes, certificated in any category.

Subject

(d) Air Transport Association (ATA) of America Code 27: Flight controls.

Unsafe Condition

(e) This AD results from reports of low rudder pedal forces that were caused by a broken inner spring in the rudder feel and centering unit; a broken inner spring in conjunction with a broken outer spring would significantly reduce rudder pedal forces. We are issuing this AD to prevent reduced rudder pedal forces, which could result in increased potential for pilot-induced oscillations and reduce the ability of the flightcrew to maintain the safe flight and landing of the airplane.

Compliance

(f) Comply with this AD within the compliance times specified, unless already done.

Test/Inspection

(g) For Model 737-600, -700, -700C, -800, and -900 series airplanes identified in Boeing Alert Service Bulletin 737-27A1287, dated April 16, 2008: Within 30 days after the effective date of this AD, perform a test of the rudder pedal forces or a detailed inspection of the inner spring of the rudder feel and centering unit, by doing all the applicable actions, including all applicable corrective actions before further flight, in accordance with the Accomplishment Instructions of Boeing Alert Service Bulletin 737-27A1287, dated April 16, 2008. Repeat the test or inspection thereafter at intervals not to exceed 120 days.

Terminating Action

(h) For Model 737-600, -700, -700C, -800, and -900 series airplanes identified in Boeing Alert Service Bulletin 737-27A1287, dated April 16, 2008: Within 36 months after the effective date of this AD, replace the spring assembly in the rudder feel and centering unit in accordance with the Accomplishment Instructions of Boeing Alert Service Bulletin 737-27A1287, dated April 16, 2008. Accomplishing the replacement ends the repetitive tests or inspections required by paragraph (g) of this AD.

Parts Installation

(i) For all airplanes: As of the effective date of this AD, no person may install, on any airplane, a rudder feel and centering unit having part number (P/N) 65C25410-7, serial numbers 3609 through 3820 inclusive, unless it has been modified according to paragraph (h) of this AD.

No Reporting Required

(j) Boeing Alert Service Bulletin 737-27A1287, dated April 16, 2008, specifies sending a data reporting sheet to Boeing; however, this AD does not require that action.

Alternative Methods of Compliance (AMOCs)

(k)(1) The Manager, Seattle Aircraft Certification Office (ACO), FAA, ATTN: Kelly McGuckin, Aerospace Engineer, Systems and Equipment Branch, ANM-130S, FAA, Seattle Aircraft Certification Office, 1601 Lind Avenue, SW., Renton, Washington 98057-3356; telephone (425) 917-6490; fax (425) 917-6590; has the authority to approve AMOCs for this AD, if requested using the procedures found in 14 CFR 39.19.

(2) To request a different method of compliance or a different compliance time for this AD, follow the procedures in 14 CFR 39.19. Before using any approved AMOC on any airplane to which the AMOC applies, notify your principal maintenance inspector (PMI) or principal avionics inspector (PAI), as appropriate, in the FAA Flight Standards District Office (FSDO), or lacking a principal inspector, your local FSDO. The AMOC approval letter must specifically reference this AD.

Issued in Renton, Washington, on February 27, 2009.
Ali Bahrami,
Manager, Transport Airplane Directorate, Aircraft Certification Service.

[FR Doc. E9-5015 Filed 3-9-09; 8:45 am]

BILLING CODE 4910-13-P